POSTAL REGULATORY COMMISSION

[Docket No. CP2024-295; Order No. 7101]

Competitive Postal Products

AGENCY: Postal Regulatory Commission.

ACTION: Notice.

SUMMARY: The Commission is recognizing a recently filed Postal Service document with the Commission concerning changes in rates of general applicability for Competitive products. This notice informs the public of the filing, invites public comment, and takes other administrative steps.

DATES: Comments are due: June 3, 2024.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Summary of Changes

III. Initial Administrative Actions

IV. Ordering Paragraphs

I. Introduction

On May 10, 2024, the Postal Service filed notice with the Commission concerning changes in rates of general applicability for Competitive products.¹ The Postal Service represents that, as required by 39 CFR 3035.102(b) and 39 CFR 3035.104(b), the Notice includes the Governors' Decision establishing the changes, including an explanation and justification for the changes, and certification of the vote. Notice at 1. The changes are scheduled to take effect on July 14, 2024. Id.

¹ USPS Notice of Changes in Rates of General Applicability for Competitive Products, May 10, 2024 (Notice). Pursuant to 39 U.S.C. 3632(b)(2), the Postal Service is obligated to publish the Governors' Decision and record of proceedings in the Federal Register at least 30 days before the effective date of the new rates.

Attached to the Notice is Governors' Decision No. 24-3, which states the new prices are in accordance with 39 U.S.C. 3632 and 3633 and 39 CFR 3035.102-.104.² The Governors' Decision provides an analysis of the Competitive products' price changes intended to demonstrate that the changes comply with 39 U.S.C. 3633 and 39 CFR part 3035. Governors' Decision No. 24-3 at 1-2. The Attachment to the Governors' Decision No. 24-3 sets forth the price changes and includes draft Mail Classification Schedule (MCS) language for the impacted Competitive products of general applicability. See Notice at 1; Governor's Decision No. 24-3 at 1.

² Notice, Decision of the Governors of the United States Postal Service on Changes in Rates of General Applicability for Competitive Products (Governors' Decision No. 24-3), at 2 (Governors' Decision No. 24-3).

In addition, the Notice includes a non-public annex showing FY 2025 projected volumes, revenues, attributable costs, contribution, and cost coverage for each product. See Notice at 1. The Postal Service also filed supporting forecast data and price adjustment calculations for each affected product as required by Order No. 1062. Id.

The Notice also includes an application for non-public treatment of the unredacted version of the annex to the Governors' Decision, as well as the supporting materials for the data. Id.

II. Summary of Changes

The Postal Service proposes price changes for the Parcel Select product and states that “[n]o other competitive product prices are changing for July 2024.” ³ The proposed changes are designed to “better align” the Parcel Select product and pricing strategies with the Postal Service's operating model and goals. Id. More specifically, the Postal Service “no longer intends to incentivize parties to aggregate mail volume from multiple shippers and bring such volume directly to the destination delivery unit (DDU).” Id.

³ Id. at 2. There are no proposed price changes associated with any other Competitive product and no proposed classification changes in the instant proceeding. Id.

Accordingly, on average, Parcel Select prices are proposed to increase 25.0 percent. Id. For DDU entered parcels, the average price increase will be 43.4 percent, which, as the Postal Service states, will “promote better utilization of network processing and transportation capacity by realigning rate relationships across entry points.” Id. For destination section center facility (DSCF) entered parcels, the average price increase will be 8.6 percent. Id. For destination network distribution center (DNDC) entered parcels, the average price increase will be 18.6 percent. For USPS Connect Local pieces, the average price increase will be 15.9 percent, aiming to align with DDU prices. Id. Finally, for destination hub (Dhub) entered parcels, the average price increase will be 0.0 percent. Id.

III. Initial Administrative Actions

The Commission establishes Docket No. CP2024-295 to consider the Postal Service's Notice. Interested persons may express views and offer comments on whether the planned changes are consistent with 39 U.S.C. 3632, 3633, and 3642, 39 CFR part 3035, and 39 CFR 3040 subparts B and E. Comments are due June 3, 2024. For specific details of the planned price changes, interested persons are encouraged to review the Notice, which is available on the Commission's website at www.prc.gov.

Pursuant to 39 U.S.C. 505, Samuel Robinson is appointed to serve as Public Representative to represent the interests of the general public in this docket.

IV. Ordering Paragraphs

It is ordered:

1. The Commission establishes Docket No. CP2024-295 to provide interested persons an opportunity to express views and offer comments on whether the planned changes are consistent with 39 U.S.C. 3632, 3633, and 3642, 39 CFR part 3035, and 39 CFR 3040 subparts B and E.

2. Comments are due June 3, 2024.

3. Pursuant to 39 U.S.C. 505, the Commission appoints Samuel Robinson to serve as an officer of the Commission (Public Representative) to represent the interests of the general public in this docket.

4. The Secretary shall arrange for publication of this order in the Federal Register.

By the Commission.
Erica A. Barker,
Secretary.

[FR Doc. 2024-10810 Filed 5-16-24; 8:45 am]

BILLING CODE 7710-FW-P